NATIONAL LABOR RELATIONS BOARD

Sunshine Act Meetings

TIME AND DATES: All meetings are held at 2:30 p.m.

Tuesday, October 2;

Wednesday, October 3;

Thursday, October 4;

Tuesday, October 9;

Wednesday, October 10;

Thursday, October 11;

Tuesday, October 16;

Wednesday, October 17;

Thursday, October 18;

Tuesday, October 23;

Wednesday, October 24;

Thursday, October 25;

Tuesday, October 30;

Wednesday, October 31.

PLACE: Board Agenda Room, No. 11820, 1099 14th St. NW., Washington DC 20570.

STATUS: Closed.

MATTERS TO BE CONSIDERED: Pursuant to 102.139(a) of the Board's Rules and Regulations, the Board or a panel thereof will consider “the issuance of a subpoena, the Board's participation in a civil action or proceeding or an arbitration, or the initiation, conduct, or disposition * * * of particular representation or unfair labor practice proceedings under section 8, 9, or 10 of the [National Labor Relations] Act, or any court proceedings collateral or ancillary thereto.” See also 5 U.S.C. 552b(c)(10).

CONTACT PERSON FOR MORE INFORMATION: Lester A. Heltzer, Executive Secretary, (202) 273-1067.

Dated: September 28, 2012.
Lester A. Heltzer,
Executive Secretary.

[FR Doc. 2012-24399 Filed 9-28-12; 4:15 pm]

BILLING CODE 7545-01-P